DEPARTMENT OF HEALTH AND HUMAN SERVICES

Food and Drug Administration

[FDA 225-03-8001]

Memorandum of Understanding Between the Department of Health and Human Services of the United States Through the Food and Drug Administration and the Ministry of Health of the United Mexican States Through the Federal Commission For Protection From Sanitary Risks Covering the Safety and Quality of Fresh and Frozen Aquacultured Molluscan Shellfish Exported From the United Mexican States to the United States of America

AGENCY: Food and Drug Administration, HHS.

ACTION: Notice.

SUMMARY: The Food and Drug Administration (FDA) is providing notice of a memorandum of understanding (MOU) between the Department of Health and Human Services of the United States of America, through the Food and Drug Administration (FDA) and the Ministry of Health of the United Mexican States, through the Federal Commission for Protection from Sanitary Risks. This understanding is in keeping with the beneficial and cooperative work conducted under the terms of a 1988 MOU concerning the safety and quality of molluscan shellfish exported to the United States from the United Mexican States. The purpose of the MOU is to establish the set of guidelines to be implemented for assuring that molluscan shellfish exported from the United Mexican States and offered for import into the United States of America are safe for human consumption and are harvested, processed, transported, and labeled in accordance with the provision of the U.S. National Shellfish Sanitation Program, the applicable requirements of the Federal Food, Drug, and Cosmetic Act, and other related public health laws.

DATES: The agreement became effective June 18, 2003.

FOR FURTHER INFORMATION CONTACT: Paul W. Distefano, Center for Food Safety and Applied Nutrition, (HFS-417), Food and Drug Administration, 5100 Paint Branch Pkwy., College Park, MD 20740, 301-436-1410.

SUPPLEMENTARY INFORMATION: In accordance with 21 CFR 20.108(c) which states that all written agreements and MOUs between FDA and others shall be published in the Federal Register, the agency is publishing notice of this MOU.

Dated: July 31, 2003.
Jeffrey Shuren,
Assistant Commissioner for Policy.

BILLING CODE 4160-01-S

[FR Doc. 03-20246 Filed 8-8-03; 8:45 am]

BILLING CODE 4160-01-C